DEPARTMENT OF THE INTERIOR

Geological Survey

[GR18NDOOGQ44100 OMB Control Number 1028—NEW]

Agency Information Collection Activities; Submission to the Office of Management and Budget for Review and Approval; Efficacy of Oak Savanna Restoration History Information Request

AGENCY: U.S. Geological Survey, Interior.

ACTION: Notice of information collection; request for comment.

SUMMARY: In accordance with the Paperwork Reduction Act of 1995, the U.S. Geological Survey (USGS) is proposing a new information collection.

DATES: Interested persons are invited to submit comments on or before January 14, 2019.

ADDRESSES: Send written comments on this information collection request (ICR) to the Office of Management and Budget's Desk Officer for the Department of the Interior by email at OIRA_Submission@omb.eop.gov; or via facsimile to (202) 395-5806. Please provide a copy of your comments by mail to USGS, Information Collections Clearance Officer, 12201 Sunrise Valley Drive, MS 159, Reston, VA 20192; or by email to gs-info_collections@usgs.gov. Please reference OMB Control Number 1028—NEW in the subject line of your comments.

FOR FURTHER INFORMATION CONTACT: To request additional information about this ICR, contact Noel B. Pavlovic by email at npavlovic@usgs.gov, or by telephone at (219) 926-8336 X428. You may also view the ICR at http://www.reginfo.gov/public/do/PRAMain.

SUPPLEMENTARY INFORMATION: The USGS, in accordance with the Paperwork Reduction Act of 1995, provides the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on 4/25/2018 (FR 2018-08678). We received one comment. The comment did not address the issue of requesting information from land managers about multiple oak savanna management techniques.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you may ask us in your comment to withhold your personal identifying information from public review, we cannot guarantee that we will be able to do so.

Abstract: Managers from sites where we will have collected vegetation data will be contacted for information about management activities. The information will be used by the Principal Investigators (PIs) and Co-PIs and research assistant(s) to generate a history of management database for all the sites and treatments sampled. Most sites will include three or four subsites as indicated by these treatment types: Control, burned, thinned, and/or burned and thinned. The data table will include site name and subsite treatment types as identification without any manager's name, title or contact information, since this latter information is irrelevant to the analysis. The data table of management history will be used to relate to the condition and status of the groundlayer vegetation, as expressed in variables such as species richness, species turnover, composition through ordination and other statistical methods including structural equation modeling. Results of analyses may include site names and treatment types, but no specific manager information will be retained or relevant to the results.

Title of Collection: Efficacy of Oak Savanna Restoration History Information Request.

OMB Control Number: 1028—NEW.

Form Number: None.

Type of Review: New.

Respondents/Affected Public: State property managers; local property managers; and private land managers.

Total Estimated Number of Annual Respondents: 30.

Estimated Completion Time per Response: 1 hour.

Total Estimated Number of Annual Burden Hours: 30.

Respondent's Obligation: Voluntary.

Frequency of Collection: One time, sometimes twice for clarification.

Total Estimated Annual Non-hour Burden Cost: $0.

An agency may not conduct or sponsor and a person is not required to respond to a collection of information unless it displays a currently valid OMB control number.

The authority for this action is the Paperwork Reduction Act of 1995 (44 U.S.C. 3501, et seq.).

Shonnie Fearon,
Acting Director, Great Lakes Science Center.

[FR Doc. 2018-26983 Filed 12-12-18; 8:45 am]

BILLING CODE 4338-11-P